DEPARTMENT OF ENERGY

Federal Energy Regulatory Commission and the California State Lands Commission

[FERC Docket No. CP01-422-000; CA State Clearinghouse No. 2001071035; CSLC EIR No. 710; BLM Reference Nos. CACA-43346 and CACA-17918]

Kern River Gas Transmission Company; Notice of Availability/Completion of the Final Environmental Impact Statement/Report for the Proposed Kern River 2003 Expansion Project

June 20, 2002.

The staffs of the Federal Energy Regulatory Commission (FERC or Commission) and the California State Lands Commission (CSLC) have prepared a final environmental impact statement/report (EIS/EIR) to address natural gas pipeline facilities proposed by Kern River Gas Transmission Company (KRGT).

The final EIS/EIR was prepared as required by the National Environmental Policy Act and the California Environmental Quality Act (CEQA). Its purpose is to inform the public and the permitting agencies about the potential adverse and beneficial environmental impacts of the proposed project and its alternatives, and recommend mitigation measures that would reduce any significant adverse impacts to the maximum extent possible and, where feasible, to a less than significant level. With one exception, the EIS/EIR concludes that the potentially significant adverse environmental impacts of the proposed project can be mitigated to a level of insignificance with appropriate mitigation measures. As discussed in the EIS/EIR, a long-term reduction in the special concern vegetation communities of yucca, cactus, and agave cannot be ruled out and, therefore, potential impacts on these species could be significant. Accordingly, the CSLC's approval of the project would be subject to a Statement of Overriding Considerations under the CEQA due to this significant unavoidable impact that could remain after mitigation is applied.¹

¹ The CEQA Guidelines Section 15093 requires the CSLC to balance, as applicable, the economic, legal, social, technological, or other benefits of a proposed project against its unavoidable environmental risks when determining whether to approve the project. If the specific economic, legal, social, technological, or other benefits of a proposed project outweigh the unavoidable adverse environmental effects, the adverse environmental effects may be considered “acceptable.”

The Bureau of Land Management (BLM) is participating as a cooperating agency in the preparation of the EIS/EIR because the project would cross Federal land under the jurisdiction of seven field offices in Wyoming, Utah, and Nevada, and one district office and three field offices in California. The U.S. Department of Agriculture, Forest Service (FS) is also a cooperating agency in the preparation of this document because the Dixie National Forest and the Humboldt-Toiyabe National Forest/Spring Mountains National Recreation Area would be crossed by the project. The EIS/EIR will be used by the BLM to consider issuance of a new or amended right-of-way grant for the portion of the project on Federal lands.

The final EIS/EIR addresses the potential environmental effects of the construction and operation of the following facilities in Wyoming, Utah, Nevada, and California:

• 634.5 miles of 36-inch-diameter pipeline adjacent to KRGT's existing pipeline in Wyoming (Lincoln and Uinta Counties), Utah (Summit, Morgan, Salt Lake, Utah, Juab, Millard, Beaver, Iron, and Washington Counties), Nevada (Lincoln and Clark Counties), and California (San Bernardino County);

• 82.2 miles of 42-inch-diameter pipeline adjacent to the portion of KRGT's existing pipeline that it jointly owns with Mojave Pipeline Company in California (San Bernardino and Kern Counties);

• 0.8 mile of 12-inch-diameter pipeline in Uinta County, Wyoming;

• Three new compressor stations, one each in Wyoming (Uinta County), Utah (Salt Lake County), and Nevada (Clark County) for a total of 60,000 horsepower (hp) of compression;

• Modifications to six existing compressor stations, one in Wyoming (Lincoln County), three in Utah (Utah, Millard, and Washington Counties), one in Nevada (Clark County), and one in California (San Bernardino County) for a total of 103,700 hp of new compression;

• Modifications to one existing meter station in Wyoming (Lincoln County) and four existing meter stations in California (two each in San Bernardino and Kern Counties); and

• Various mainline block valves, internal inspection tool launcher/receiver facilities, and other appurtenances.

The final EIS/EIR has been placed in the public files of the FERC and the CSLC and is available for public inspection at:

Federal Energy Regulatory Commission, Public Reference and Files Maintenance Branch, 888 First Street, NE., Room 2A, Washington, DC 20426, (202) 208-1371;

and

California State Lands Commission, 100 Howe Avenue, Suite 100 South, Sacramento, CA 95825, (916) 574-1890.

The final EIS/EIR was filed with the U.S. Environmental Protection Agency and submitted to the California State Clearinghouse. The document was also mailed to appropriate Federal, state, and local agencies; elected officials, Native American groups; newspapers; public libraries; intervenors to the FERC's proceeding; and other interested parties who provided scoping comments, commented on the draft EIS/EIR, or wrote to the FERC, the CSLC, or the BLM asking to receive a copy of the document. A formal notice indicating that the final EIS/EIR is available was published in the Federal Register and posted in the appropriate County Clerks' offices in California.

A limited number of copies of the final EIS/EIR are available from the FERC's Public Reference and Files Maintenance Branch identified above. Copies may also be obtained from Cy Oggins, CSLC, at the address above. The final EIS/EIR is available for viewing on the project web site at http://www.kernriver2003.com and at the public libraries listed in appendix 1 of this notice.²

² The appendix referenced in this notice is not being printed in the Federal Register. A copy is available on the FERC's web site (http://www.ferc.gov) at the “RIMS” link or from the Commission's Public Reference and Files Maintenance Branch, 888 First Street, N.E., Room 2A, Washington, DC 20426, or call (202)208-1371. For instructions on connecting to RIMS, refer to page 4 of this notice.

Additional information about the proposed project is available from Cy Oggins at the CSLC at (916) 574-1884, or on the CSLC web site at http://www.slc.ca.gov, and from the FERC's Office of External Affairs at (202) 208-1088 (direct line) or you can call the FERC operator at 1-800-847-8885 and ask for External Affairs. Information is also available on the FERC web site at http://www.ferc.gov using the “RIMS” link. Click on the “RIMS” link, select “Docket#,” and follow the instructions (call (202) 208-2222 for assistance). Access to the texts of formal documents issued by the FERC, such as orders and notices, is also available on the FERC web site by using the “CIPS” link, selecting “Docket#,” and following the instructions. For assistance with access to CIPS, the CIPS helpline can be reached at (202) 208-2222.

Information concerning the involvement of the BLM is available from Jerry Crockford, BLM Project Manager, at (505) 599-6333. Information concerning the involvement of the FS is available from Kathy Slack, Supervisor's Office, at (435) 865-3742.

The CSLC will meet to consider certification of the final EIS/EIR and take action on the proposed project at a public meeting in 2002. Interested parties will be notified of the date, time, and place of the meeting 10 to 15 days in advance. If you have any questions regarding the CSLC meeting, or wish to testify, please contact Cy Oggins at the number above.

Linwood A. Watson, Jr.,
Deputy Secretary, Federal Energy Regulatory Commission.

[FR Doc. 02-16109 Filed 6-25-02; 8:45 am]

BILLING CODE 6717-01-P